DEPARTMENT OF COMMERCE

National Oceanic and Atmospheric Administration

RIN 0648-XD302

Pacific Fishery Management Council; Public Meeting

AGENCY: National Marine Fisheries Service (NMFS), National Oceanic and Atmospheric Administration (NOAA), Commerce.

ACTION: Notice of public meeting.

SUMMARY: The Pacific Fishery Management Council's (Pacific Council) Groundfish Management Team (GMT) will hold a webinar to discuss items on the June Pacific Council meeting agenda (see http://tinyurl.com/mg4p59h). The meeting is open to the public, but is not intended as a public hearing.

DATES: The webinar will be held Tuesday, June 10, 2014 from 1 p.m. until 5 p.m., or when business for the day has been completed.

ADDRESSES: The meeting will be held via webinar. Join the meeting by visiting this link: http://www.joinwebinar.com. Enter the Webinar ID: 936-920-471. Please enter your name and email address (required). Once you have joined the webinar, choose either your computer's audio or select “Use Telephone.” If you do not select “Use Telephone” you will be connected to audio using your computer's microphone and speakers (VolP). It is recommended that you use a computer headset as GoToMeeting allows you to listen to the meeting using your computer headset and speakers. If you do not have a headset and speakers, you may use your telephone for the audio portion of the meeting by dialing this TOLL number 1-646-307-1722 (not a toll-free number); phone audio access code 694-418-350; audio phone pin shown after joining the webinar.

Pacific Council Address: Pacific Fishery Management Council, 7700 NE Ambassador Place, Suite 101, Portland, OR 97220-1384. A public listening station will also be provided at the Pacific Council office.

FOR FURTHER INFORMATION CONTACT: Ms. Kelly Ames, Staff Officer, Pacific Council; telephone: (503) 820-2426.

SUPPLEMENTARY INFORMATION: The GMT will hold a webinar to discuss items on the June Council meeting agenda (see http://tinyurl.com/mg4p59h) with specific focus on electronic monitoring regulatory development and exempted fishing permits. Public comments will be taken at the discretion of the GMT chair as time allows. The GMT is scheduled to report their recommendations to the Pacific Council at their June 2014 meeting in Garden Grove, CA.

Although non-emergency issues not contained in the meeting agenda may come before the GMT for discussion, those issues may not be the subject of formal GMT action during this meeting. GMT action will be restricted to those issues specifically listed in this notice and any issues arising after publication of this notice that require emergency action under section 305(c) of the Magnuson-Stevens Fishery Conservation and Management Act, provided the public has been notified of the GMT's intent to take final action to address the emergency.

Technical Information

PC-based attendees must use Windows 7, Vista, or XP. Mac-based attendees must use Mac OS X 10.5 or newer. Mobile attendees must use an iPhone, iPad, Android phone, or Android tablet. You may also send an email to Mr. Kris Kleinschmidt or contact him at (503) 820-2425 for technical assistance.

Special Accommodations

This meeting is physically accessible to people with disabilities. Requests for sign language interpretation or other auxiliary aids should be directed to Mr. Kris Kleinschmidt at (503) 820-2425 at least 5 days prior to the meeting date.

Dated: May 20, 2014.
Tracey L. Thompson,
Acting Deputy Director, Office of Sustainable Fisheries, National Marine Fisheries Service.

[FR Doc. 2014-11959 Filed 5-22-14; 8:45 am]

BILLING CODE 3510-22-P